DEPARTMENT OF VETERANS AFFAIRS

[OMB Control No. 2900-0156]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of currently approved collection, and allow 60 days for public comment in response to the notice. This notice solicits comments for information needed to report changes in students' enrollment status.

DATES: Written comments and recommendations on the proposed collection of information should be received on or before December 19, 2005.

ADDRESSES: Submit written comments on the collection of information to Nancy J. Kessinger, Veterans Benefits Administration (20M35), Department of Veterans Affairs, 810 Vermont Avenue, NW., Washington, DC 20420 or e-mail irmnkess@vba.va.gov. Please refer to “OMB Control No. 2900-0156” in any correspondence.

FOR FURTHER INFORMATION CONTACT: Nancy J. Kessinger at (202) 273-7079 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Notice of Change in Student Status (Under Chapter 30, 32, or 35, Title 38 U.S.C; Chapters 1606 and 1607, Title 10 U.S.C.; or Section 901 and 903 of Public Law 96-342; the National Call to Service Provision of Public Law 107-314; the “Transfer of Entitlement” Provision of Public Law 107-107; and the Omnibus Diplomatic Security and Antiterrorism Act of 1986), VA Form 22-1999b.

OMB Control Number: OMB Control No. 2900-0156.

Type of Review: Extension of a currently approved collection.

Abstract: Educational institutions use VA Form 22-1999b to report a student's enrollment status. Benefits are not payable when the student interrupts or terminates a program. VA uses the information to determine the student's entitlement to educational benefits or if the student's benefits should be increased, decreased, or terminated.

Affected Public: State, Local or Tribal Government, Business or other for-profit, and Not-for-profit institutions.

Estimated Annual Burden: 50,570 hours.

a. VA Form 22-1999b (Paper Copy)—24, 670 hours.

b. VA Form 22-1999b (Electronically Filed)—25,900 hours.

Estimated Average Burden Per Respondent:

a. VA Form 22-1999b (Paper Copy)—10 minutes.

b. VA Form 22-1999b (Electronically Filed)—7 minutes.

Frequency of Response: On occasion.

Estimated Number of Respondents: 8,274.

Estimated Total Number of Responses Annually: 370,000.

a. VA Form 22-1999b (Paper Copy)—148,000.

b. VA Form 22-1999b (Electronically Filed)—222,000.

Dated: October 11, 2005.
By direction of the Secretary.
Denise McLamb,
Program Analyst, Records Management Service.

[FR Doc. E5-5779 Filed 10-19-05; 8:45 am]

BILLING CODE 8320-01-P